DEPARTMENT OF ENERGY

Federal Energy Regulatory Commission

[Docket No. RP03-398-000]

Northern Natural Gas Company; Notice of Informal Settlement Conference

January 16, 2004.

Take notice that an informal settlement conference will be convened in this proceeding commencing at 10 a.m. on Thursday, January 22, 2004, and continuing if necessary at 9 a.m. on Friday, January 23, 2004, at the Federal Energy Regulatory Commission, 888 First Street, NE., Washington, DC 20426, for the purpose of exploring the possible settlement of the above-referenced docket.

Any party, as defined by 18 CFR 385.102(c), or any participant as defined by 18 CFR 385.102(b), is invited to attend. Persons wishing to become a party must move to intervene and receive intervenor status pursuant to the Commission's regulations (18 CFR 385.214).

For additional information, please contact Michael Cotleur (202) 502-8519 michael.cotleur@ferc.gov, William Collins (202) 502-8248 william.collins@ferc.gov, or Kevin Frank (202) 502-8065 kevin.frank@ferc.gov.

Linda Mitry,
Acting Secretary.

[FR Doc. E4-109 Filed 01-23-04; 8:45 am]

BILLING CODE 6717-01-P